DEPARTMENT OF HEALTH AND HUMAN SERVICES

Centers for Disease Control and Prevention

[60Day-20-20MZ; Docket No. CDC-2020-0043]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Emerging Infections Program (EIP) Tracking of SARS-CoV-2 Infections among Healthcare Personnel”. Through this project, EIP staff will collect data to: (1) Determine the extent of COVID-19 among HCP working in U.S. healthcare facilities; (2) describe characteristics of HCP exposed to or infected with SARS-CoV-2, including clinical activities and personal protective equipment use; and (3) compare exposures and other characteristics of HCP cases and exposed HCP that do not become cases to identify risk factors or protective factors for COVID-19.

DATES: CDC must receive written comments on or before July 14, 2020.

ADDRESSES: You may submit comments, identified by Docket No. CDC-2020-0043 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Emerging Infections Program Tracking of SARS-CoV-2 Infections among Healthcare Personnel—New—National Center for Emerging and Zoonotic Infectious Diseases (NCEZID), Centers for Disease Control and Prevention (CDC).

Background and Brief Description

CDC proposes to conduct tracking and interviews of healthcare personnel (HCP) with COVID-19 (HCP cases) and HCP exposed to COVID-19 patients but who do not become cases (HCP non-cases) to determine the burden of infections and identify factors associated with development of COVID-19 among HCP of healthcare facilities within catchment areas of CDC's Emerging Infection Program's (EIP) sites, a network of 10 state health departments and their local public health and academic partners. The EIP is currently approved under OMB Control No. 0920-0978 (expiration date: 04/30/2022). EIPs assist in local, state, and national efforts to prevent, control, and monitor the public health impact of infectious diseases. The 10 EIP sites are: California, Colorado, Connecticut, Georgia, Maryland, Minnesota, New Mexico, New York, Oregon and Tennessee. Up to 10 EIP sites may participate in this information collection, depending on resource availability during the pandemic.

EIP sites that participate in this project may choose to implement one or both project options below:

• Option 1: Tracking of SARS-CoV-2 infections among HCP;

• Option 2: Assessing risk factors for infections among HCP exposed to patients with COVID-19 in healthcare facilities.

EIP site staff will identify a convenience sample of healthcare facilities within the EIP catchment areas. Hospitals and nursing homes are prioritized for inclusion, but other types of facilities may participate. Each EIP site will seek to identify three or more facilities to participate.

For option 1, EIP staff will obtain lists of HCP cases and contact information from local or state health department partners or in some cases from a healthcare facility's occupational health department or infection control program. To minimize burden on healthcare facilities, EIP staff will attempt to obtain HCP lists and contact information from health departments whenever possible.

For option 2, EIP staff may need to work directly with a healthcare facility's occupational health department or infection control program to obtain HCP names and contact information because this option requires identification and data collection from HCP non-cases (HCP who are exposed to COVID-19 patients but who do not develop infection).

For both options, EIP staff will collect data from HCP via telephone interviews or a self-administered electronic case report form. There are no costs to respondents other than their time to participate. The total estimated annualized burden hours requested for this collection is 2,300.

Estimated Annualized Burden Hours

Type of respondents | Form name | Number of respondents | Number of responses per respondent | Average burden per response (in hours) | Total burden (in hours)
Healthcare Personnel | Assessment of Healthcare Personnel Exposed to or Infected with SARS-CoV-2 | 4,000 | 1 | 30/60 | 2,000
Occupational Health Nurses at Healthcare Facilities | No form | 50 | 24 | 15/60 | 300
Total |  |  |  |  | 2,300

Jeffrey M. Zirger,
Lead, Information Collection Review Office, Office of Scientific Integrity, Office of Science, Centers for Disease Control and Prevention.

[FR Doc. 2020-10410 Filed 5-14-20; 8:45 am]

BILLING CODE 4163-18-P